DEPARTMENT OF HEALTH AND HUMAN SERVICES

Centers for Disease Control and Prevention (CDC)

Notice of Establishment

Pursuant to the Federal Advisory Committee Act, as amended (5 U.S.C. Appendix 2), the Secretary, Department of Health and Human Services (HHS), announces the establishment of the Board of Scientific Counselors, Coordinating Office for Terrorism Preparedness and Emergency Response (COTPER).

This board is established to ensure that the coordinating office has access to external viewpoints, the capacity to conduct peer review of scientific programs, and perform second level peer-review of research applications.

The Board of Scientific Counselors, COTPER will advise the Secretary, HHS; and the Director, Centers for Disease Control and Prevention; concerning strategies and goals for the programs and research within the national centers; shall conduct peer-review of scientific programs; and monitor the overall strategic direction and focus of the national centers. The board, after conducting its periodic reviews, shall submit a written description of the results of the review and its recommendations to the Director, CDC. The board shall also perform second-level peer review of applications for grants-in-aid for research and research training activities, cooperative agreements, and research contract proposals relating to the broad areas within the national centers.

For information, contact Dr. Dan Sosin, Executive Secretary, Centers for Disease Control and Prevention, of the Department of Health and Human Services, 1600 Clifton Road, N.E., Mailstop D44, Atlanta, Georgia 30333, telephone 404/639-7855 or fax 404/639-7977.

The Director, Management Analysis and Services Office, has been delegated the authority to sign Federal Register notices pertaining to announcements of meetings and other committee management activities, for both the CDC and the Agency for Toxic Substances and Disease Registry.

Dated: October 15, 2007.
Elaine L. Baker,
Acting Director, Management Analysis and Services Office, Centers for Disease Control and Prevention (CDC).

[FR Doc. E7-20717 Filed 10-19-07; 8:45 am]

BILLING CODE 4163-18-P